DEPARTMENT OF COMMERCE

International Trade Administration

[A-570-033]

Large Residential Washers From the People's Republic of China: Continuation of the Antidumping Duty Order

AGENCY: Enforcement and Compliance, International Trade Administration, Department of Commerce.

SUMMARY: As a result of the determinations by the U.S. Department of Commerce (Commerce) and the U.S. International Trade Commission (ITC) that revocation of the antidumping duty (AD) order on large residential washers (washers) from the People's Republic of China (China) would likely lead to a continuation or recurrence of dumping and material injury to an industry in the United States, Commerce is publishing a notice of continuation of the AD order on washers from China.

DATES: Applicable August 30, 2022.

FOR FURTHER INFORMATION CONTACT: Brian Smith or Max Goldman, AD/CVD Operations, Office VIII, Enforcement and Compliance, International Trade Administration, U.S. Department of Commerce, 1401 Constitution Avenue NW, Washington, DC 20230; telephone: (202) 482-1766 or (202) 482-0224, respectively.

SUPPLEMENTARY INFORMATION:

Background

On February 6, 2017, Commerce published in the Federal Register the AD order on washers from China.¹ On January 3, 2022, the ITC instituted ² and Commerce initiated ³ a five-year (sunset) review of the Order, pursuant to section 751(c) of the Tariff Act of 1930, as amended (the Act). As a result of its review, Commerce determined, pursuant to sections 751(c)(1) and 752(c) of the Act, that revocation of the Order would likely lead to a continuation or recurrence of dumping. Therefore, Commerce notified the ITC of the magnitude of the margin of dumping likely to prevail were the Order to be revoked.⁴

¹ See Large Residential Washers from the People's Republic of China: Amended Final Affirmative Antidumping Duty Determination and Antidumping Duty Order, 82 FR 9371 (February 6, 2017) (Order).

² See Large Residential Washers from China; Institution of a Five-Year Review, 87 FR 115 (January 3, 2022).

³ See Initiation of Five-Year (Sunset) Reviews, 87 FR 76 (January 3, 2022).

⁴ See Large Residential Washers from the People's Republic of China: Final Results of Expedited Sunset Review of Antidumping Duty Order, 87 FR 27101 (May 6, 2022), and accompanying Issues and Decision Memorandum.

On August 22, 2022, the ITC published its determination, that revocation of the Order would likely lead to a continuation or recurrence of material injury to an industry in the United States within a reasonably foreseeable time, pursuant to sections 751(c) and 752(a) of the Act.⁵

⁵ See Large Residential Washers from China, 87 FR 51446 (August 22, 2022).

Scope of the Order

The products covered by this Order are all large residential washers and certain parts thereof from the People's Republic of China.

For purposes of this Order, the term “large residential washers” denotes all automatic clothes washing machines, regardless of the orientation of the rotational axis, with a cabinet width (measured from its widest point) of at least 24.5 inches (62.23 cm) and no more than 32.0 inches (81.28 cm), except as noted below.

Also covered are certain parts used in large residential washers, namely: (1) All cabinets, or portions thereof, designed for use in large residential washers; (2) all assembled tubs ⁶ designed for use in large residential washers which incorporate, at a minimum: (a) a tub; and (b) a seal; (3) all assembled baskets ⁷ designed for use in large residential washers which incorporate, at a minimum: (a) a side wrapper; ⁸ (b) a base; and (c) a drive hub; ⁹ and (4) any combination of the foregoing parts or subassemblies.

⁶ A “tub” is the part of the washer designed to hold water.

⁷ A “basket” (sometimes referred to as a “drum”) is the part of the washer designed to hold clothing or other fabrics.

⁸ A “side wrapper” is the cylindrical part of the basket that actually holds the clothing or other fabrics.

⁹ A “drive hub” is the hub at the center of the base that bears the load from the motor.

Excluded from the scope are stacked washer-dryers and commercial washers. The term “stacked washer-dryers” denotes distinct washing and drying machines that are built on a unitary frame and share a common console that controls both the washer and the dryer. The term “commercial washer” denotes an automatic clothes washing machine designed for the “pay per use” segment meeting either of the following two definitions:

(1) (a) it contains payment system electronics; ¹⁰ (b) it is configured with an externally mounted steel frame at least six inches high that is designed to house a coin/token operated payment system (whether or not the actual coin/token operated payment system is installed at the time of importation); (c) it contains a push button user interface with a maximum of six manually selectable wash cycle settings, with no ability of the end user to otherwise modify water temperature, water level, or spin speed for a selected wash cycle setting; and (d) the console containing the user interface is made of steel and is assembled with security fasteners; ¹¹ or

¹⁰ “Payment system electronics” denotes a circuit board designed to receive signals from a payment acceptance device and to display payment amount, selected settings, and cycle status. Such electronics also capture cycles and payment history and provide for transmission to a reader.

¹¹ A “security fastener” is a screw with a non-standard head that requires a non-standard driver. Examples include those with a pin in the center of the head as a “center pin reject” feature to prevent standard Allen wrenches or Torx drivers from working.

(2) (a) it contains payment system electronics; (b) the payment system electronics are enabled (whether or not the payment acceptance device has been installed at the time of importation) such that, in normal operation,¹² the unit cannot begin a wash cycle without first receiving a signal from a bona fide payment acceptance device such as an electronic credit card reader; (c) it contains a push button user interface with a maximum of six manually selectable wash cycle settings, with no ability of the end user to otherwise modify water temperature, water level, or spin speed for a selected wash cycle setting; and (d) the console containing the user interface is made of steel and is assembled with security fasteners.

¹² “Normal operation” refers to the operating mode(s) available to end users (i.e., not a mode designed for testing or repair by a technician).

Also excluded from the scope are automatic clothes washing machines that meet all of the following conditions: (1) Have a vertical rotational axis; (2) are top loading; ¹³ (3) have a drive train consisting, inter alia, of (a) a permanent split capacitor (PSC) motor,¹⁴ (b) a belt drive,¹⁵ and (c) a flat wrap spring clutch.¹⁶

¹³ Top loading” means that access to the basket is from the top of the washer.

¹⁴ A “PSC motor” is an asynchronous, alternating current (AC), single phase induction motor that employs split phase capacitor technology.

¹⁵ A “belt drive” refers to a drive system that includes a belt and pulleys.

¹⁶ A “flat wrap spring clutch” is a flat metal spring that, when engaged, links abutted cylindrical pieces on the input shaft with the end of the concentric output shaft that connects to the drive hub.

Also excluded from the scope are automatic clothes washing machines that meet all of the following conditions: (1) Have a horizontal rotational axis; (2) are front loading; ¹⁷ and (3) have a drive train consisting, inter alia, of (a) a controlled induction motor (CIM),¹⁸ and (b) a belt drive.

¹⁷ “Front loading” means that access to the basket is from the front of the washer.

¹⁸ A “controlled induction motor” is an asynchronous, alternating current (AC), polyphase induction motor.

Also excluded from the scope are automatic clothes washing machines that meet all of the following conditions: (1) Have a horizontal rotational axis; (2) are front loading; and (3) have cabinet width (measured from its widest point) of more than 28.5 inches (72.39 cm). The products subject to this Order are currently classifiable under subheadings 8450.20.0040 and 8450.20.0080 of the Harmonized Tariff Schedule of the United States (HTSUS). Products subject to this Order may also enter under HTSUS subheadings 8450.11.0040, 8450.11.0080, 8450.90.2000, and 8450.90.6000. Although the HTSUS subheadings are provided for convenience and customs purposes, the written description of the merchandise subject to this Order is dispositive.

Continuation of the Order

As a result of the determinations by Commerce and the ITC that revocation of the Order would likely lead to a continuation or recurrence of dumping and material injury to an industry in the United States, pursuant to section 751(d)(2) of the Act and 19 CFR 351.218(a), Commerce hereby orders the continuation of the Order. U.S. Customs and Border Protection will continue to collect AD cash deposits at the rates in effect at the time of entry for all imports of subject merchandise. The effective date of the continuation of the Order will be the date of publication in the Federal Register of this notice of continuation. Pursuant to section 751(c)(2) of the Act and 19 CFR 351.218(c)(2), Commerce intends to initiate the next five-year (sunset) review of the Order not later than 30 days prior to the fifth anniversary of the effective date of continuation.

Administrative Protective Order (APO)

This notice also serves as the only reminder to parties subject to APO of their responsibility concerning the return/destruction or conversion to judicial protective order of proprietary information disclosed under APO in accordance with 19 CFR 351.305(a)(3). Failure to comply is a violation of the APO which may be subject to sanctions.

Notification to Interested Parties

This five-year (sunset) review and notice are in accordance with sections 751(c) and 777(i) the Act, and 19 CFR 351.218(f)(4).

Dated: August 24, 2022.
Lisa W. Wang,
Assistant Secretary for Enforcement and Compliance.

[FR Doc. 2022-18611 Filed 8-29-22; 8:45 am]

BILLING CODE 3510-DS-P